DEPARTMENT OF COMMERCE

International Trade Administration

[A-588-852, A-580-841]

Structural Steel Beams from Japan and South Korea; Final Results of Expedited Sunset Reviews of the Antidumping Duty Orders

AGENCY: Import Administration, International Trade Administration, Department of Commerce.

SUMMARY: On May 2, 2005, the Department of Commerce (the Department) initiated a sunset review of the antidumping duty orders on structural steel beams (steel beams) from Japan and South Korea, pursuant to section 751(c) of the Tariff Act of 1930, as amended, (the Tariff Act). On the basis of the notice of intent to participate and adequate substantive responses filed on behalf of the domestic interested parties and inadequate responses from respondent interested parties, the Department conducted expedited sunset reviews. As a result of these sunset reviews, the Department finds that revocation of the antidumping duty orders would likely lead to continuation or recurrence of dumping at the levels listed below in the section entitled “Final Results of Reviews.”

EFFECTIVE DATE: September 9, 2005.

FOR FURTHER INFORMATION CONTACT: Dana Mermelstein, AD/CVD Operations, Office 6, Import Administration, International Trade Administration, U.S. Department of Commerce, 14th Street and Constitution Avenue, NW, Washington, DC 20230, telephone (202) 482-1391.

SUPPLEMENTARY INFORMATION:

Background

On May 2, 2005, the Department initiated sunset reviews of the antidumping duty orders on steel beams from Japan and South Korea, pursuant to section 751(c) of the Tariff Act. See Initiation of Five-year (“Sunset”) Reviews, 70 FR 22632 (May 2, 2005). The Department received notices of intent to participate from the domestic interested parties, Committee for Fair Beam Imports, Nucor Corp., Nucor-Yamoto Steel Co., Steel Dynamics, Inc., and TXI-Chaparral Steel, Inc. (collectively, domestic interested parties), within the deadline specified in section 351.218(d)(1)(i) of the Department's regulations. Domestic interested parties claimed interested party status under section 771(9)(C) of the Tariff Act as U.S. producers of a domestic like product. We received a complete substantive response from the domestic interested parties within the 30-day deadline specified in 19 CFR 351.218(d)(3)(i). However, we did not receive responses from any respondent interested parties. As a result, pursuant to section 751(c)(3)(B) of the Tariff Act and 19 CFR 351.218(e)(1)(ii)(C)(2), the Department conducted expedited sunset reviews of these orders.

Scope of the Orders

For purposes of this review, the products covered are doubly-symmetric shapes, whether hot or cold-rolled, drawn, extruded, formed or finished, having at least one dimension of at least 80 mm (3.2 inches or more), whether of carbon or alloy (other than stainless) steel, and whether or not drilled, punched, notched, painted, coated, or clad. These products (Structural Steel Beams) include, but are not limited to, wide-flange beams (W shapes), bearing piles (HP shapes), standard beams (S or I shapes), and M-shapes.

All products that meet the physical and metallurgical descriptions provided above are within the scope of this review unless otherwise excluded. The following products, are outside and/or specifically excluded from the scope of this review: structural steel beams greater than 400 pounds per linear foot or with a web or section height (also known as depth) over 40 inches.

The merchandise subject to this review is classified in the Harmonized Tariff Schedule of the United States (HTSUS) at subheadings: 7216.32.0000, 7216.33.0030, 7216.33.0060, 7216.33.0090, 7216.50.0000, 7216.61.0000, 7216.69.0000, 7216.91.0000,¹ 7216.99.0000,² 7228.70.3040,³ 7228.70.6000. Although the HTSUS subheadings are provided for convenience and U.S. Customs and Border Protection (CBP) purposes, the written description of the merchandise under review is dispositive.

¹ HTSUS subheading 7216.91.0000 was no longer in use as of 2004, and was replaced by 7216.91.0010 and 7216.91.0090 in that year.

² HTSUS subheading 7216.99.0000 was no longer in use as of 2004, and was replaced by 7216.99.0010 and 7216.99.0090 in that year.

³ HTSUS subheading 7228.70.3040 was no longer in use as of 2005. What was previously covered by that number is now covered with in 7228.70.3010 and 7228.70.3041 starting in 2005.

Analysis of Comments Received

All issues raised in these cases are addressed in the “Issues and Decision Memorandum” from Barbara E. Tillman, Acting Deputy Assistant Secretary for Import Administration, to Joseph A. Spetrini, Acting Assistant Secretary for Import Administration, dated August 30, 2005 (Decision Memorandum), which is hereby adopted by this notice. The issues discussed in the Decision Memorandum include the likelihood of continuation or recurrence of dumping and the magnitude of the margin likely to prevail if the orders were revoked. Parties can find a complete discussion of all issues raised in these sunset reviews and the corresponding recommendations in this public memorandum, which is on file in room B-099 of the main Department building.

In addition, a complete version of the Decision Memorandum can be accessed directly on the Web at http://ia.ita.doc.gov, under the heading “September 2005.” The paper copy and electronic version of the Decision Memorandum are identical in content.

Final Results of Reviews

We determine that revocation of the antidumping duty orders on steel beams from Japan and South Korea would likely lead to continuation or recurrence of dumping at the following percentage weighted-average margins:

Manufacturers/Exporters/Producers | Weighted-Average Margin (Percent)
Japan
Kawasaki Steel Corporation | 65.21
Nippon Steel Corporation | 65.21
NKK Corporation/TOA Steel Co., Ltd. | 65.21
Sumitomo Metals Industries, Ltd. | 65.21
Tokyo Steel Manufacturing Co., Ltd. | 65.21
Topy Industries, Limited | 65.21
All Others | 31.98
South Korea
INI Steel Company | 25.31
All Others | 37.25

This notice also serves as the only reminder to parties subject to administrative protective orders (APO) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing these results and notice in accordance with sections 751(c), 752, and 777(i)(1) of the Tariff Act.

Dated: August 30, 2005.
Joseph A. Spetrini,
Acting Assistant Secretary for Import Administration.

[FR Doc. E5-4941 Filed 9-8-05; 8:45 am]

BILLING CODE 3510-DS-S